DEPARTMENT OF DEFENSE

Defense Acquisition Regulations System

48 CFR Part 252

RIN 0750-AH32

Defense Federal Acquisition Regulation Supplement; Successor Entities to the Netherlands Antilles (DFARS Case 2011-D029)

AGENCY: Defense Acquisition Regulations System, Department of Defense (DoD).

ACTION: Final rule.

SUMMARY: DoD is issuing a final rule to revise the definitions of “Caribbean Basin country” and “designated country” due to the change in the political status of the islands that comprised the Netherlands Antilles.

DATES: Effective date: June 29, 2011.

FOR FURTHER INFORMATION CONTACT: Ms. Amy Williams, Telephone 703-602-0328.

SUPPLEMENTARY INFORMATION:

I. Background

This final rule amends definitions of “Caribbean Basin country” and “designated country” at the clauses 252.225-7021, Trade Agreements, and 252.225-45, Balance of Payments Program—Construction Materials Under Trade Agreements.

On October 10, 2010, Curacao and Sint Maarten became autonomous territories of the Kingdom of the Netherlands. Bonaire, Saba, and Sint Eustatius now fall under the direct administration of the Netherlands.

The Netherlands Antilles was designated as a beneficiary country under the Caribbean Basin Initiative (see 19 U.S.C. 2702). According to the initiative, successor political entities remain eligible as beneficiary countries.

Therefore, the definitions have been revised to replace “Netherlands Antilles” with the five separate successor entities.

II. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

III. Regulatory Flexibility Act

The Regulatory Flexibility Act does not apply to this rule.

Therefore, an initial regulatory flexibility analysis has not been performed because an initial regulatory flexibility analysis is only required for proposed or interim rules that require publication for public comment (5 U.S.C. 603) and a final regulatory flexibility analysis is only required for final rules that were previously published for public comment, and for which an initial regulatory flexibility analysis was prepared (5 U.S.C. 604).

This final rule does not constitute a significant FAR (or DFARS) revision as defined at FAR 1.501-1 because this rule will not have a significant cost or administrative impact on contractors or offerors, or a significant effect beyond the internal operating procedures of the Government. The rule only reflects the political status of the islands that comprised the Netherlands Antilles. This will have no impact on any entities in the United States. Therefore, publication for public comment under 41 U.S.C. 1707 is not required.

IV. Paperwork Reduction Act

This rule will not change the burden of any of the approved information collection requirements for part 225 currently approved by the Office of Management and Budget under OMB Clearance 0704-0229, Defense Federal Acquisition Regulation Supplement Part 225, Foreign Acquisition, and related clauses.

List of Subjects in 48 CFR Part 252

Government procurement.

Ynette R. Shelkin,
Editor, Defense Acquisition Regulations System.

Therefore, 48 CFR part 252 is amended as follows:

PART 252—SOLICITATION PROVISIONS AND CONTRACT CLAUSES

1. The authority citation for 48 CFR part 252 continues to read as follows:

Authority: 41 U.S.C. 1303 and 48 CFR chapter 1.

252.212-7001 [Amended]

2. In section 252.212-7001, amend paragraph (b)(12)(i) by removing the clause date “(NOV 2009)” and adding in its place “(JUN 2011)”.

3. In section 252.225-7021, remove the clause date “(NOV 2009)” and add in its place “(JUN 2011)” and revise paragraph (a)(3)(iv) to read as follows:

252.225-7021 Trade agreements.

* * * * *

(a) * * *

(3) * * *

(iv) A Caribbean Basin country (Antigua and Barbuda, Aruba, Bahamas, Barbados, Belize, Bonaire, British Virgin Islands, Curacao, Dominica, Grenada, Guyana, Haiti, Jamaica, Montserrat, Saba, St. Kitts and Nevis, St. Lucia, St. Vincent and the Grenadines, Sint Eustatius, Sint Maarten, or Trinidad and Tobago).

* * * * *

4. In section 252.225-7045, remove the clause date “(JAN 2009)” and add in its place “(JUN 2011)” and in paragraph (a), revise paragraph (4) of the definition of “designated country” to read as follows:

252.225-7045 Balance of Payments Program—Construction Material Under Trade Agreements.

* * * * *

(a) * * *

Designated country * * *

(4) A Caribbean Basin country (Antigua and Barbuda, Aruba, Bahamas, Barbados, Belize, Bonaire, British Virgin Islands, Curacao, Dominica, Grenada, Guyana, Haiti, Jamaica, Montserrat, Saba, St. Kitts and Nevis, St. Lucia, St. Vincent and the Grenadines, Sint Eustatius, Sint Maarten, or Trinidad and Tobago).

* * * * *

[FR Doc. 2011-16373 Filed 6-28-11; 8:45 am]

BILLING CODE 5001-08-P